FEDERAL COMMUNICATIONS COMMISSION

Notice of Public Information Collection(s) Being Submitted to OMB for Review and Approval

March 25, 2005.

SUMMARY: The Federal Communications Commissions, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before May 4, 2005. If you anticipate that you will be submitting comments, but find it difficult to do so within the period of time allowed by this notice, you should advise the contact listed below as soon as possible.

ADDRESSES: Direct all comments to Cathy Williams, Federal Communications Commission, Room 1-C823, 445 12th Street, SW., Washington, DC 20554 or via the Internet to Cathy.Williams@fcc.gov or Kristy L. LaLonde, Office of Management and Budget (OMB), Room 10236 NEOB, Washington, DC 20503, (202) 395-3087 or via the Internet at Kristy_L._LaLonde@omb.eop.gov.

FOR FURTHER INFORMATION CONTACT: For additional information or copy of the information collection(s) contact Cathy Williams at (202) 418-2918 or via the Internet at Cathy.Williams@fcc.gov.

SUPPLEMENTARY INFORMATION: OMB Control Number: 3060-0016.

Title: Application for Authority to Construct or Make Changes to a Low Power TV, TV Translator, or TV Booster Station.

Form Number: FCC Form 346.

Type of Review: Revision of a currently approved collection.

Respondents: Business or other for-profit entities; Not-for-profit institutions; State, local or tribal government.

Number of Respondents: 4,500.

Estimated Time Per Response: 7 hours.

Frequency of Response: On occasion reporting requirement; Third party disclosure requirement.

Total Annual Burden: 31,500 hours.

Total Annual Cost: $13,491,000.

Privacy Impact Assessment: No impact(s).

Needs and Uses: Licensees/permittees/applicants use FCC Form 346 to apply for authority to construct or make changes in a Low Power Television, TV Translator, or TV Booster broadcast station. On September 9, 2004, the Commission adopted a Report and Order, In the Matter of Parts 73 and 74 of the Commission's Rules to Established Rules for Digital Low Power Television, Television Translator, and Television Booster Stations and to Amend Rules for Digital Class A Television Stations, MB Docket Number 03-185, FCC 04-220. To implement the new rules, the Commission is revising FCC Form 346 to allow licensees/permittees/applicants to use the revised FCC Form 346 to file for digital broadcast stations or for conversion of their existing analog stations to digital stations.

Applicants are also subject to the third party disclosure requirements under 47 CFR 73.3580. Within 30 days of tendering the application, the applicant is required to publish a notice in a newspaper of general circulation when filing all applications for new or major changes in facilities—the notice is to appear at least twice a week for two consecutive weeks in a three-week period. A copy of this notice must be maintained with the application. FCC staff use the data to determine if the applicant is qualified, meets basic statutory and treaty requirements, and will not cause interference to other authorized broadcast services.

OMB Control Number: 3060-0027.

Title: Application for Construction Permit for Commercial Broadcast Station.

Form Number: FCC Form 301.

Type of Review: Extension of a currently approved collection.

Respondents: Business or other for-profit entities; Not-for-profit institutions.

Number of Respondents: 3,247.

Estimated Time Per Response: 2 to 4 hours.

Frequency of Response: On occasion reporting requirement; Third party disclosure requirement.

Total Annual Burden: 8,380 hours.

Total Annual Cost: $44,630,924.

Privacy Impact Assessment: No impact(s).

Needs and Uses: FCC Form 301 is used to apply for authority to construct a new commercial AM, FM, or TV broadcast station, or to make changes in existing facilities of such a station. This collection also includes the third party disclosure requirement of 47 CFR 73.3580, requiring local public notice in a newspaper of general circulation of the filing of all construction permit applications. FM licensees or permittees may request, by application on FCC Form 301, upgrades on adjacent and co-channels, modifications to adjacent channels of the same class, and downgrades to adjacent channels without first submitting a petition for rulemaking. All applicants using this one-step process must demonstrate that a suitable site exists which would comply with allotment standards with respect to minimum distance separation and city-grade coverage and which would be suitable for tower construction. To receive authorization for commencement of Digital Television (“DTV”) operation, commercial broadcast licensees must file FCC Form 301 for a construction permit. This application may be filed anytime after receiving the initial DTV allotment but must be filed before mid-point in a particular applicant's required construction period. The Commission will consider these applications as minor changes in facilities. Applications will not have to supply full legal or financial qualification information.

On June 24, 2004, the U.S. Court of Appeals for the Third Circuit (the “Court”) issued an Opinion and Judgment (“Remand Order”) in which it upheld certain aspects of the Commission's new media ownership rules adopted on June 2, 2003 (See 18 FCC Rcd 13620 (2003)), specifically those dealing with local radio ownership, while requiring further explanation for all other aspects of the new rules. In particular, the Court held that the use of Arbitron Metro markets, the inclusion of noncommercial stations in determining radio market size, the attribution of joint sale agreements, and certain transfer restrictions are consistent with the Administrative Procedure Act. The Court stated that its prior stay of all new ownership rules would remain in effect pending the outcome of the remand proceeding. The Commission filed a petition for rehearing requesting that the Court lift the stay partially—i.e., with respect to the radio ownership rules which the Court's Remand Order upheld. On September 3, 2004, the Court granted the Commission's petition, thus partially lifting the stay (“Rehearing Order”). As a result of the Rehearing Order, the new radio ownership rules took effect September 3, 2004.

Under the new radio ownership rules, radio Joint Sales Agreements (JSAs) are attributable and radio applicants are required to submit as a part of the FCC Form 301 a copy of any attributable JSA or time brokerage agreement.

OMB Control Number: 3060-0920.

Title: Application for Construction Permit for a Low Power FM Broadcast Station.

Form Number: FCC Form 318.

Type of Review: Extension of a currently approved collection

Respondents: Not-for-profit institutions; State, local or tribal government.

Number of Respondents: 2,283.

Estimated Time Per Response: 45 minutes to 6 hours.

Frequency of Response: On occasion reporting requirement.

Total Annual Burden: 6,315 hours.

Total Annual Cost: None.

Privacy Impact Assessment: No impact(s).

Needs and Uses: FCC Form 318 is required to apply for a construction permit for a new Low Power FM station, to make changes in the existing facilities of such a station, or to amend a pending FCC Form 318 application. The data is used by FCC staff to determine whether an applicant meets basic statutory and regulatory requirements to become a Commission licensee and to ensure that the public interest would be served by grant of the application.

OMB Control Number: 3060-0932.

Title: Application for Authority to Make Changes in a Class A TV Broadcast Station.

Form Number: FCC Form 301-CA.

Type of Review: Revision of a currently approved collection.

Respondents: Business or other for-profit entities; Not-for-profit institutions; State, local or tribal government.

Number of Respondents: 650.

Estimated Time per Response: 7 hours.

Frequency of Response: On occasion reporting requirement.

Total Annual Burden: 4,550 hours.

Total Annual Cost: $3,703,700.

Privacy Impact Assessment: No impact(s).

Needs and Uses: The FCC Form 301-CA is to be used in all cases by Class A television station licensees seeking to make changes in the authorized facilities of such station. The FCC Form 301-CA requires applicants to certify compliance with certain statutory and regulatory requirements. Detailed instructions provide additional information regarding Commission rules and policies.

On September 9, 2004, the Commission adopted a Report and Order, In the Matter of Parts 73 and 74 of the Commission's Rules to Established Rules for Digital Low Power Television, Television Translator, and Television Booster Stations and to Amend Rules for Digital Class A Television Stations, FCC 04-220, MB Docket Number 03-185. To implement these rules, the Commission is revising FCC Form 301-CA to allow licensees to use the revised FCC Form 301-CA to file for digital broadcast stations or conversion of their existing analog stations to digital stations.

Class A applicants are also subject to third party disclosure requirement of Section 73.3580 which requires local public notice in a newspaper of general circulation of the filing of all applications for major changes in facilities. This notice must be completed within 30 days of the tendering of the application. This notice must be published at least twice a week for two consecutive weeks in a three-week period. A copy of this notice must be placed in the public inspection file along with the application.

The FCC Form 301-CA is designed to track the standards and criteria which the Commission applies to determine compliance and to increase the reliability of applicant certifications.

Federal Communications Commission.
Marlene H. Dortch,
Secretary.

[FR Doc. 05-6561 Filed 4-1-05; 8:45 am]

BILLING CODE 6712-01-P